DEPARTMENT OF COMMERCE

National Oceanic and Atmospheric Administration

RIN 0648-XF567

South Atlantic Fishery Management Council; Public Meeting

AGENCY: National Marine Fisheries Service (NMFS), National Oceanic and Atmospheric Administration (NOAA), Commerce.

ACTION: Notice of public scoping meeting.

SUMMARY: The South Atlantic Fishery Management Council (Council) will hold a public scoping meeting via webinar pertaining to Amendment 31 to the Coastal Migratory Pelagics Fishery Management Plan for the Atlantic and Gulf of Mexico (FMP). The draft amendment includes options to remove Atlantic cobia from the FMP or establish complementary management of Atlantic cobia.

DATES: The public scoping meeting will be held via webinar on August 15, 2017 at 6 p.m. Eastern Standard Time.

ADDRESSES: Council address: South Atlantic Fishery Management Council, 4055 Faber Place Drive, Suite 201, N. Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: The Council is soliciting public input on options for the management of Atlantic cobia. Atlantic cobia are currently managed by the Council in federal waters from the Florida/Georgia state line north through New York. Options include continuing efforts to develop a complementary management plan with the Atlantic States Marine Fisheries Commission (ASMFC) or the complete transfer of Atlantic cobia management to the ASMFC. The recreational fishery for Atlantic cobia closed in federal waters earlier this year after NOAA Fisheries determined the annual catch limit would be met. The majority of Atlantic cobia are caught off the coasts of northeastern North Carolina and Virginia are generally harvested from state waters. The Council is considering options for management in order to allow additional flexibility for the fishery.

The public scoping webinar will consist of a presentation by Council staff, a question and answer session, and formal public comment. Written comments will also be accepted via the online comment form. Registration for the webinar is required. Registration information, briefing materials and the public comment form will be available at: http://safmc.net/safmc-meetings/public-hearing-and-scoping-meeting-schedule/ on or before August 1, 2017. Written comments may also be submitted to the Council office (see ADDRESSES). Comments will be accepted until 5 p.m. on Friday, August 18, 2017.

Special Accommodations

These meetings are physically accessible to people with disabilities. Requests for auxiliary aids should be directed to the council office (see ADDRESSES) 3 days prior to the meeting.

Note: The times and sequence specified in this agenda are subject to change.

Authority: 16 U.S.C. 1801 et seq.

Dated: July 25, 2017.
Tracey L. Thompson,
Acting Deputy Director, Office of Sustainable Fisheries, National Marine Fisheries Service.

[FR Doc. 2017-15926 Filed 7-27-17; 8:45 am]

BILLING CODE 3510-22-P